DEPARTMENT OF ENERGY

Federal Energy Regulatory Commission

Combined Notice of Filings # 2

July 10, 2008.

Take notice that the Commission received the following electric corporate filings:

Docket Numbers: ER08-1204-000.

Applicants: Vermont Transco LLC.

Description: Vermont Transco LLC submits an “updated Exhibit A for the 1991 Transmission Agreement” a rate schedule commonly referred to as the VTA and designated as Rate Schedule 1, effective 7/1/08.

Filed Date: 07/01/2008.

Accession Number: 20080703-0136.

Comment Date: 5 p.m. Eastern Time on Tuesday, July 22, 2008.

Docket Numbers: ER08-1205-000.

Applicants: New England Power Pool.

Description: The New England Power Pool Participants Committee submits signature pages of the New England Power Pool Agreement dated as of 9/1/71, as amended executed by Correct Building Product LLC et al.

Filed Date: 07/01/2008.

Accession Number: 20080703-0137.

Comment Date: 5 p.m. Eastern Time on Tuesday, July 22, 2008.

Docket Numbers: ER08-1206-000.

Applicants: Southwest Power Pool, Inc.

Description: Southwest Power Pool Inc submits an unexecuted Service Agreement for Network Integration Transmission Service with Oklahoma Municipal Power Authority et al.

Filed Date: 07/01/2008.

Accession Number: 20080703-0138.

Comment Date: 5 p.m. Eastern Time on Tuesday, July 22, 2008.

Docket Numbers: ER08-1207-000.

Applicants: Virginia Electric and Power Company.

Description: Virginia Electric and Power Co submits revised tariff sheets to the open access transmission tariff of PJM Interconnection, LLC to implement transmission rate incentives.

Filed Date: 07/01/2008.

Accession Number: 20080707-0149.

Comment Date: 5 p.m. Eastern Time on Tuesday, July 22, 2008.

Docket Numbers: ER08-1209-000.

Applicants: ISO New England Inc.

Description: ISO New England, Inc and New England Power Pool Participants Committee submits related materials addressing tariff revisions related to resources needed for reliability in the Forward Capacity Market.

Filed Date: 07/01/2008.

Accession Number: 20080703-0156.

Comment Date: 5 p.m. Eastern Time on Tuesday, July 22, 2008.

Docket Numbers: ER08-1207-001.

Applicants: Virginia Electric and Power Company.

Description: Virginia Electric and Power Co submits an errata to its 7/1/08 request for Transmission Investment Incentive under ER08-1207.

Filed Date: 07/02/2008.

Accession Number: 20080703-0204.

Comment Date: 5 p.m. Eastern Time on Wednesday, July 23, 2008.

Docket Numbers: ER08-1208-000.

Applicants: American Electric Power Service Corporation.

Description: AEP Operating Companies submits a second revision to the Interconnection and Local Delivery Service Agreement with City of Clyde under ER08-1208.

Filed Date: 07/02/2008.

Accession Number: 20080703-0149.

Comment Date: 5 p.m. Eastern Time on Wednesday, July 23, 2008.

Docket Numbers: ER08-1210-000.

Applicants: Arizona Public Service Company.

Description: ANPP Switchyard Participants submits a partially executed Amended and Restated ANPP Hassayampa Switchyard Interconnection Agreement entered into between the ANPP Switchyard Participants and the Palo Verde et al. under ER08-1210.

Filed Date: 07/02/2008.

Accession Number: 20080703-0209.

Comment Date: 5 p.m. Eastern Time on Wednesday, July 23, 2008.

Docket Numbers: ER08-1211-000.

Applicants: Green Energy Partners LLC.

Description: Green Energy Partners, LLC submits a Petition for Acceptance of Initial Rate Schedule, Waivers and Blanket Authorization under ER08-1211.

Filed Date: 07/02/2008.

Accession Number: 20080703-0205.

Comment Date: 5 p.m. Eastern Time on Wednesday, July 23, 2008.

Docket Numbers: ER08-1212-000.

Applicants: Southwest Power Pool, Inc.

Description: Southwest Power Pool, Inc submits revised pages to its Open Access Transmission Tariff under ER08-1212.

Filed Date: 07/02/2008.

Accession Number: 20080703-0206.

Comment Date: 5 p.m. Eastern Time on Wednesday, July 23, 2008.

Docket Numbers: ER08-1214-000.

Applicants: Wisconsin Electric Power Company.

Description: Wisconsin Electric Power Company submits certain tariff revisions to the Restated Power Service Agreement with Ontonagon County Rural Electrification Association, to be effective 9/1/08 under ER08-1214.

Filed Date: 07/02/2008.

Accession Number: 20080707-0072.

Comment Date: 5 p.m. Eastern Time on Wednesday, July 23, 2008.

Docket Numbers: ER08-1215-000.

Applicants: Wisconsin Electric Power Company.

Description: Wisconsin Electric Power Company submits certain tariff revisions to the Restated Power Service Agreement with the City of Crystal Falls Michigan, effective 9/1/08 under ER08-1215.

Filed Date: 07/02/2008.

Accession Number: 20080707-0073.

Comment Date: 5 p.m. Eastern Time on Wednesday, July 23, 2008.

Docket Numbers: ER08-1216-000.

Applicants: Wisconsin Electric Power Company.

Description: Wisconsin Electric Power Company submits certain tariff revisions to its Formula Rate Wholesale Sales Tariff, to be effective 9/1/08 under ER08-1216.

Filed Date: 07/02/2008.

Accession Number: 20080707-0074.

Comment Date: 5 p.m. Eastern Time on Wednesday, July 23, 2008.

Docket Numbers: ER08-1217-000.

Applicants: Wisconsin Electric Power Company.

Description: Wisconsin Electric Power Company submits certain tariff revisions to the Restated Power Service Agreement with Alger Delta Cooperative Electric Association, to be effective 9/1/08 under ER08-1217.

Filed Date: 07/02/2008.

Accession Number: 20080707-0075.

Comment Date: 5 p.m. Eastern Time on Wednesday, July 23, 2008.

Docket Numbers: ER08-1218-000.

Applicants: Wisconsin Electric Power Company.

Description: Wisconsin Electric Power Company submits certain tariff revisions to the Restated Power Service Agreement between Wisconsin Electric and Wisconsin Public Power, Inc under ER08-1218.

Filed Date: 07/02/2008.

Accession Number: 20080707-0076.

Comment Date: 5 p.m. Eastern Time on Wednesday, July 23, 2008.

Docket Numbers: ER08-1219-000.

Applicants: CL Power Sales Ten, L.L.C.

Description: CL Power Sales Ten, L.L.C. submits a Notice of Cancellation under ER08-1219.

Filed Date: 07/03/2008.

Accession Number: 20080703-0207.

Comment Date: 5 p.m. Eastern Time on Thursday, July 24, 2008.

Docket Numbers: ER08-1220-000.

Applicants: PJM Interconnection, L.L.C.

Description: PJM Interconnection, L.L.C. submits a fully executed Network Integration Transmission Service Agreement with Illinois Municipal Electric Agency under ER08-1220.

Filed Date: 07/03/2008.

Accession Number: 20080703-0208.

Comment Date: 5 p.m. Eastern Time on Thursday, July 24, 2008.

Docket Numbers: ER08-1221-000; ER08-61-002.

Applicants: ISO New England Inc.

Description: ISO New England, Inc et al. submits revised tariff sheets and supporting testimony of Marc Montalvo, Manager of Market Development for the ISO under ER08-1221.

Filed Date: 07/03/2008.

Accession Number: 20080707-0084.

Comment Date: 5 p.m. Eastern Time on Thursday, July 24, 2008.

Docket Numbers: ER08-1222-000.

Applicants: ISO New England Inc.

Description: ISO New England Inc et al. submits revised tariff sheets concerning the methodology for determining external node prices in the day-ahead energy market under ER08-1222 et al.

Filed Date: 07/03/2008.

Accession Number: 20080707-0296.

Comment Date: 5 p.m. Eastern Time on Thursday, July 24, 2008.

Docket Numbers: ER08-1223-000.

Applicants: PJM Interconnection, L.L.C.

Description: PJM Interconnection, L.L.C. submits a notice of cancellation for a Wholesale Market Participant Agreement under ER08-1223.

Filed Date: 07/03/2008.

Accession Number: 20080707-0302.

Comment Date: 5 p.m. Eastern Time on Thursday, July 24, 2008.

Docket Numbers: ER08-1224-000.

Applicants: ISO New England Inc.

Description: ISO New England, Inc et al. submits 1st Revised Sheet 7011B et al. to FERC Electric Tariff 3 relating to retirement of existing capacity resources etc. and supporting testimony of David LaPlante under ER08-1224.

Filed Date: 07/03/2008.

Accession Number: 20080707-0301.

Comment Date: 5 p.m. Eastern Time on Thursday, July 24, 2008.

Docket Numbers: ER08-1225-000.

Applicants: Cloud County Wind Farm, LLC.

Description: Petition of Cloud County Wind Farm, LLC for Acceptance of Initial Rate Schedule, Waivers and Blanket Authority under ER07-1225.

Filed Date: 07/03/2008.

Accession Number: 20080707-0297.

Comment Date: 5 p.m. Eastern Time on Thursday, July 24, 2008.

Docket Numbers: ER08-1226-000.

Applicants: Arlington Wind Power Project LLC.

Description: Petition of Arlington Wind Power Project LLC for Order Accepting Market-Based Rate Tariff for Filing and Granting Waivers and Blanket Approvals under ER07-1226.

Filed Date: 07/03/2008.

Accession Number: 20080707-0298.

Comment Date: 5 p.m. Eastern Time on Thursday, July 24, 2008.

Docket Numbers: ER08-1227-000.

Applicants: Rail Splitter Wind Farm, LLC.

Description: Petition of Rail Splitter Wind Farm, LLC for Order Accepting Market-Based Rate Tariff for filing and granting Waivers and Blanket Approvals, effective 9/1/08 under ER08-1227.

Filed Date: 07/03/2008.

Accession Number: 20080707-0299.

Comment Date: 5 p.m. Eastern Time on Thursday, July 24, 2008.

Docket Numbers: ER08-1228-000.

Applicants: Wheat Field Wind Power Project LLC.

Description: Petition of Wheat Field Wind Power Project LLC for Acceptance of Initial Rate Schedule, Waivers and Blanket Authority under ER07-1228.

Filed Date: 07/03/2008.

Accession Number: 20080707-0303.

Comment Date: 5 p.m. Eastern Time on Thursday, July 24, 2008.

Docket Numbers: ER08-1229-000.

Applicants: New York Independent System Operator, Inc.

Description: New York Independent System Operator, Inc submits an executed Large Generator Interconnection Agreement with Atlantic Wind, LLC under ER08-1229.

Filed Date: 07/03/2008.

Accession Number: 20080707-0300.

Comment Date: 5 p.m. Eastern Time on Thursday, July 24, 2008.

Docket Numbers: ER08-1230-000.

Applicants: Severstal Sparrows Point, LLC.

Description: Severstal Sparrows Point, LLC submits the Notice of Succession and Motion for Determination of Category 1 Seller Status under ER08-1230 et al.

Filed Date: 07/03/2008.

Accession Number: 20080708-0038.

Comment Date: 5 p.m. Eastern Time on Thursday, July 24, 2008.

Docket Numbers: ER08-1231-000.

Applicants: Southern California Edison Company.

Description: Southern California Edison Company submits the unexecuted Interconnection Facilities Agreement between the City of Riverside and SCE under ER08-1231.

Filed Date: 07/07/2008.

Accession Number: 20080708-0037.

Comment Date: 5 p.m. Eastern Time on Monday, July 28, 2008.

Docket Numbers: ER08-1233-000.

Applicants: Public Service Electric and Gas Company.

Description: Public Service Electric and Gas Co submits revised tariff sheets to the Open access transmission tariff under ER08-1233.

Filed Date: 07/07/2008.

Accession Number: 20080708-0034.

Comment Date: 5 p.m. Eastern Time on Monday, July 28, 2008.

Docket Numbers: ER08-1234-000.

Applicants: American Electric Power Service Corporation.

Description: AEP Texas Central Company submits executed generation interconnection agreement dated 6/18/08 between AEP Texas Gas Central and two electric generating companies, Nueces Bay WLE, LP and Barney Davis etc. under ER08-1234.

Filed Date: 07/08/2008.

Accession Number: 20080709-0229.

Comment Date: 5 p.m. Eastern Time on Tuesday, July 29, 2008.

Docket Numbers: ER08-1235-000.

Applicants: Midwest Independent Transmission System.

Description: Duquesne Light Company and Midwest Independent Transmission System Operator, Inc seeks FERC's acceptance and approval for the reliable integration of Duquesne's transmission facilities etc. under ER08-1235.

Filed Date: 07/03/2008.

Accession Number: 20080708-0132.

Comment Date: 5 p.m. Eastern Time on Thursday, July 24, 2008.

Docket Numbers: ER08-1236-000; ER00-3751-005; ER00-2117-005; ER00-2118-005; ER93-493-017; ER07-400-001.

Applicants: ANP Bellingham Energy Company, LLC; ANP Blackstone Energy Company, LLC; Milford Power Limited Partnership; ANP Funding I, LLC; IPA Trading, LLC.

Description: IPA Entities submits an updated market power analysis supporting their continued authorization to sell power at market based rates under ER08-1236 et al.

Filed Date: 06/30/2008.

Accession Number: 20080708-0045.

Comment Date: 5 p.m. Eastern Time on Monday, July 21, 2008.

Docket Numbers: ER08-1238-000; ER99-1293-010.

Applicants: Monmouth Energy, Inc.

Description: Monmouth Energy, Inc. submits updated market power analysis and an errata to this filing on 07/08/08.

Filed Date: 07/07/2008; 07/08/2008.

Accession Number: 20080709-0239; 20080709-0238.

Comment Date: 5 p.m. Eastern Time on Monday, July 28, 2008.

Docket Numbers: ER08-1239-000.

Applicants: Pocono Energy Services, LLC.

Description: Pocono Energy Services, LLC submits a notice of cancellation.

Filed Date: 07/08/2008.

Accession Number: 20080709-0232.

Comment Date: 5 p.m. Eastern Time on Tuesday, July 29, 2008.

Take notice that the Commission received the following foreign utility company status filings:

Docket Numbers: FC08-10-000.

Applicants: Pubnico Point, L.P.

Description: Self Certification Notice of Foreign Utility Company Status of Pubnico Point, L.P.

Filed Date: 07/07/2008.

Accession Number: 20080707-5200.

Comment Date: 5 p.m. Eastern Time on Monday, July 28, 2008.

Docket Numbers: FC08-11-000.

Applicants: Mount Copper, L.P.

Description: Self Certification Notice of Foreign Utility Company Status of Mount Copper, L.P.

Filed Date: 07/07/2008.

Accession Number: 20080707-5202.

Comment Date: 5 p.m. Eastern Time on Monday, July 28, 2008.

Take notice that the Commission received the following open access transmission tariff filings:

Docket Numbers: OA08-24-001.

Applicants: Alcoa Power Generating, Inc.—Yadkin.

Description: Yadkin Division of Alcoa Power Generating, Inc. submits the blacklined Open Access Transmission Tariff sheets containing revised effective dated under OA08-24.

Filed Date: 07/07/2008.

Accession Number: 20080708-0036.

Comment Date: 5 p.m. Eastern Time on Monday, July 28, 2008.

Take notice that the Commission received the following public utility holding company filings:

Docket Numbers: PH08-31-000

Applicants: Energy West Incorporated

Description: FERC 65-B Notification of Energy West Resources, Inc's. change in exempt holding company status under PH08-31, et. al.

Filed Date: 07/07/2008.

Accession Number: 20080707-5231.

Comment Date: 5 p.m. Eastern Time on Monday, July 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-16308 Filed 7-16-08; 8:45 am]

BILLING CODE 6717-01-P